FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573.

Atlantic Integrated Freight Inc. (NVO), 19 Princeton Drive, Dix Hills, NY 11746, Officer: Danny Dusop Choi, President/Treasurer/Secretary (Qualifying Individual), Application Type: New NVO License.

Direct Service Inc. dba Tiger Freight International Corporation (NVO), 1209 John Reed Court, City of Industry, CA 91745, Officer: Chi Hao (Steve) Hung, President (Qualifying Individual), Application Type: Trade Name Change.

GTS Cargo Inc. (OFF & NVO), 8235 NW. 64th Street, Suite 3, Miami, FL 33166, Officers: Paula Vitielli, Vice President (Qualifying Individual), Erick S. Cicala, President, Application Type: New Off & NVO License.

Lopa Co., Ltd. (NVO), 5532 Fir Circle, La Palma, CA 90623, Officers: Tony Lee, Vice President (Qualifying Individual), Haidong Zhang, President, Application Type: New NVOCC License.

Olutayo A. Oyewo dba Marchon (OFF), 308 Sherman Bouyer Lane, Pasadena, MD 21122, Officer: Olutayo A. Oyewo, Sole Proprietor, Application Type: New OFF License.

Summit Forwarding, LLC (OFF), 3332 Fieldwoode Drive SE., Smyrna, GA 30080, Officers: Sara P. Liao, Manager (Qualifying Individual), Dean Kalinowski, Member, Application Type: New OFF License.

Transoceanic Projects Development Company, Inc. dba AKL Shipping Company (OFF & NVO), 1801 Kingwood Drive, Suite 270, Kingwood, TX 77339, Officers: Howard K. Headrick, Secretary (Qualifying Individual), Arval D. Headrick, Sr., President, Application Type: New OFF & NVO License.

WLI (USA) Inc. (OFF & NVO), 175-01 Rockaway Blvd., Suite 228, Jamaica, NY 11434, Officers: Shao H. Cheng, Vice President (Qualifying Individual), Wai M. Tang, President, Application Type: New OFF & NVO License.

Yoko Aimi dba Y and Y Export Services (OFF), 16931 S. New Hampshire Avenue, #B, Gardena, CA 90247, Officer: Yoko Aimi, Sole Proprietor (Qualifying Individual).

RDD Freight International, (LA) Inc. (OFF), 9690 Telstar Avenue, Suite #207, El Monte, CA 91731, Officers: Lang aka Anthony Zhang, Secretary (Qualifying Individual), Yiwen Hu, President, Application Type: New OFF License.

Dated: May 3, 2010.
Karen V. Gregory,
Secretary.

[FR Doc. 2010-10752 Filed 5-6-10; 8:45 am]

BILLING CODE 6730-01-P